DEPARTMENT OF JUSTICE

Antitrust Division

Notice Pursuant to the National Cooperative Research and Production Act of 1993—The Open Group, L.L.C.

Notice is hereby given that, on May 2, 2024, pursuant to section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, Advanced Micro Devices, Inc., San Jose, CA; Air Combat Command (USAF), Joint Base Langley-Eustis, VA; ASRock Industrial Computer Corporation, Taipei City, TAIWAN; Byanat LLC, Seeb, SULTANATE OF OMAN; CISO Coach Pty Ltd, Broadbeach Waters, AUSTRALIA; D3Clarity, Inc., Austin, TX; Fortinet, Inc., Sunnyvale, CA; Insulated Wire Inc., Bayport, NY; Johns Hopkins University Applied Physics Laboratory, Laurel, MD; Kovrr, Inc., Wilmington, DE; MagicOrange Group Limited, London, UNITED KINGDOM; ManagingDigital.com, Alton, UNITED KINGDOM; New Horizons Perú S.A., Miraflores, PERU; NTPC Limited, New Delhi, INDIA; Omnetics Connector Corporation, Minneapolis, MN; Peraton Labs Inc., Basking Ridge, NJ; Petrophysical Solutions, Inc., Houston, TX; PIC Wire & Cable, Inc., Waukesha, WI; Rubix For Information Technology, Riyadh, SAUDI ARABIA; Teledyne Storm Microwave, Woodridge, IL; and Vår Energi ASA, Sandnes, NORWAY, have been added as parties to this venture.

Also, Alberta Health Services, Alberta, CANADA; Alfahive, Inc., Mississauga, CANADA; Analog Devices, Inc., Chelmsford, MA; C3.ai, Inc., Redwood City, CA; digitWin, s.r.o., Bratislava, SLOVAKIA; E-Panzer Security Consulting, Inc., Southlake, TX; Eaton Corporation, Syracuse, NY; ETNIC—Fédération Wallonie-Bruxelles, Bruxelles, BELGIUM; Gainwell Technologies LLC, Conway, AR; II-VI Aerospace & Defense, Inc., Murrieta, CA; INEOS Offshore BCS Limited, London, UNITED KINGDOM; Interica Ltd., Lewes, UNITED KINGDOM; IPT Global, LLC, Houston, TX; Juniper Capital Advisors, L.P.; Houston, TX; Kraken IM, Middlesbrough, UNITED KINGDOM; Lead Dog Technologies, Lindon, UT; Makel Engineering, Inc., Chico, CA; MongoDB, New York, NY; NetApp, Inc., Sunnyvale, CA; Quantic Electronics, LLC, East Providence, RI; QuEST Global Services Pte. Ltd., Singapore, SINGAPORE; Revo Testing Technologies LLC, Houston, TX; Sandvik IT Services AB, Sandviken, SWEDEN; SARL DIGIWAVES, Ouled Fayet, ALGERIA; Softdel Systems Private Limited, Pune, INDIA; SparkCognition, Austin, TX; Supermicro, San Jose, CA; Sval Energi AS, Stavanger, NORWAY; T-EA-M Consulting Ltd., Auckland, NEW ZEALAND; TIBCO Software, Inc., Palo Alto, CA; Tracy A Barkhimer Acquisition Strategies & Consulting, LLC, White Salmon, WA; and Wellsite Software LLC, Houston, TX, have withdrawn as parties to this venture.

No other changes have been made in either the membership or planned activity of the group research project. Membership in this group research project remains open, and TOG intends to file additional written notifications disclosing all changes in membership.

On April 21, 1997, TOG filed its original notification pursuant to section 6(a) of the Act. The Department of Justice published a notice in the Federal Register pursuant to section 6(b) of the Act on June 13, 1997 (62 FR 32371).

The last notification was filed with the Department on March 1, 2024. A notice was published in the Federal Register pursuant to section 6(b) of the Act on April 16, 2024 (89 FR 26924).

Suzanne Morris,
Deputy Director Civil Enforcement Operations, Antitrust Division.

[FR Doc. 2024-13650 Filed 6-20-24; 8:45 am]

BILLING CODE P